DEPARTMENT OF TRANSPORTATION

Federal Highway Administration

Notice of Final Federal Agency Actions on Proposed Highway in North Carolina

AGENCY: Federal Highway Administration (FHWA), DOT

ACTION: Notice of Limitation on Claims for Judicial Review of Actions by FHWA and Other Federal Agencies.

SUMMARY: This notice announces actions taken by the FHWA and other Federal agencies that are final within the meaning of 23 U.S.C. 139 (l)(1). The actions relate to a proposed highway project, the Monroe Connector Bypass, a controlled-access toll road extending from US 74 near I-485 in Mecklenburg County to US 74 between the towns of Wingate and Marshville in Union County, North Carolina. Those actions grant licenses, permits, and approvals for the project.

DATES: By this notice, the FHWA is advising the public of final agency actions subject to 23 U.S.C. 139 (l)(1). A claim seeking judicial review of the Federal agency actions on the highway project will be barred unless the claim is filled on or before December 4, 2014. If the Federal law that authorizes judicial review of a claim provides a time period of less than 150 days for filing such claim, then that shorter time period still applies.

FOR FURTHER INFORMATION CONTACT: Mr. George W. Hoops, P.E., Major Projects Engineer, Federal Highway Administration, 310 New Bern Avenue, Suite 410, Raleigh, North Carolina 27601-1418; Telephone: (919) 747-7022; email: george.hoops@dot.gov. FHWA North Carolina Division Office's normal business hours are 8 a.m. to 5 p.m. (Eastern Standard Time). Mr. Richard W. Hancock, P.E., Project Development and Environmental Analysis Branch Manager, North Carolina Department of Transportation (NCDOT), 1548 Mail Service Center, Raleigh, North Carolina 27699-1548; Telephone (919) 707-6000, email: rwhancock@dot.state.nc.us. NCDOT—Project Development and Environmental Analysis Branch Office's normal business hours are 8 a.m. to 5 p.m. (Eastern Standard Time).

SUPPLEMENTARY INFORMATION: Notice is hereby given that the FHWA and other Federal agencies have taken final agency actions subject to 23 U.S.C. 139 (l)(1) by issuing licenses, permits, and approvals for the following highway project in the State of North Carolina: Monroe Connector/Bypass, Federal Aid No. STP-NHF-74(90), from US 74 near I-485 in Mecklenburg County to US 74 between the towns of Wingate and Marshville in Union County, North Carolina. The project is also known as State Transportation Improvement Program (STIP) Projects R-3329 and R-2559. The project is an approximately 20-mile long, multi-lane, fully access-controlled, new location toll road. The project follows existing US 74 for approximately one mile from just east of I-485 to east of Stallings Road (SR 1365) and then proceeds eastward on a new location alignment from east of Stallings Road to the project terminus at existing US 74 between the towns of Wingate and Marshville.

The actions by the Federal agencies, and the laws under which such actions were taken, are described in the Combined Final Supplemental Final Environmental Impact Statement (EIS) and Record of Decision (ROD), approved on May 15, 2014, and in other documents in the FHWA administrative record. The Final Supplemental Final EIS/ROD and other documents in the FHWA administrative record file are available by contacting the FHWA or NCDOT at the addresses provided above. The Final Supplemental Final EIS/ROD can be viewed and downloaded from the project Web site at http://www.ncdot.gov/projects/monroeconnector/projectResources.html. A final decision regarding Section 404 permits for this project has not yet been made. This notice, therefore, does not apply to the Section 404 permitting process for this project. This notice applies to all Federal agency actions and decisions as of the issuance date of this notice and all laws under which such actions were taken, including but not limited to:

1. General: National Environmental Policy Act (NEPA) [42 USC 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 USC 1531-1544 and Section 1536], Marine Mammal Protection Act [16 U.S.C. 1361], Anadromous Fish Conservation Act [16 U.S.C. 757(a)-757(g)], Fish and Wildlife Coordination Act [16 U.S.C. 661-667(d)], Migratory Bird Treaty Act (MBTA) [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 (ARPA) [16 U.S.C. 470(aa)-470(II)]; Archeological and Historic Preservation Act (AHPA) [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377 (Section 404, Section 401, Section 319)]; Land and Water Conservation Fund (LWCF) [16 U.S.C. 4601-4604]; Safe Drinking Water Act (SDWA) [42 U.S.C. 300(f)-300(j)(6)]; Wild and Scenic Rivers Act [16 U.S.C. 1271-1287]; Emergency Wetlands Resources Act [16 U.S.C. 3921, 3931]; Wetlands Mitigation [23 U.S.C. 119(g)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. § 139 (l)(1)

Issued on: June 26, 2014.
George W. Hoops, P.E.,
Major Project Engineer, Raleigh, North Carolina.

[FR Doc. 2014-15744 Filed 7-10-14; 8:45 am]

BILLING CODE 4910-RY-P